DEPARTMENT OF TRANSPORTATION

Federal Aviation Administration

14 CFR Part 39

[Docket No. 2003-NM-211-AD]

RIN 2120-AA64

Airworthiness Directives; Airbus Model A330 and A340-200, -300, -500, and -600 Series Airplanes

AGENCY: Federal Aviation Administration (FAA), Department of Transportation (DOT).

ACTION: Supplemental notice of proposed rulemaking; reopening of comment period.

SUMMARY: This document revises an earlier proposed airworthiness directive (AD), applicable to all Airbus Model A330 and A340-200, -300, -500, and -600 series airplanes. That action would have required a one-time inspection of each emergency evacuation slide raft installed on Type “A” exit doors equipped with regulator valves having a certain part number to determine if a discrepant regulator valve is installed on the pressure bottle that inflates the slide/raft, and an interim modification of any discrepant valve if necessary. That action also would have required eventual modification of all affected regulator valves, which would have terminated the requirements of the proposed AD. This new action revises the original NPRM by requiring part number identification and a new modification for affected airplanes, removing the one-time inspection and interim modification, and removing certain airplanes from the applicability. The actions specified by this new proposed AD are intended to prevent failure of an emergency evacuation slide raft to deploy and inflate during an emergency situation, which could impede an evacuation and result in injury to passengers or crewmembers. This action is intended to address the identified unsafe condition.

DATES: Comments must be received by July 18, 2005.

ADDRESSES: Submit comments in triplicate to the Federal Aviation Administration (FAA), Transport Airplane Directorate, ANM-114, Attention: Rules Docket No. 2003-NM-211-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-211-AD” in the subject line and need not be submitted in triplicate. Comments sent via the Internet as attached electronic files must be formatted in Microsoft Word 97 or 2000 or ASCII text.

The service information referenced in the proposed rule may be obtained from Boeing Commercial Airplanes, P.O. Box 3707, Seattle, Washington 98124-2207. This information may be examined at the FAA, Transport Airplane Directorate, 1601 Lind Avenue, SW., Renton, Washington.

FOR FURTHER INFORMATION CONTACT: Tim Backman, Aerospace Engineer, ANM-116, International Branch, FAA, Transport Airplane Directorate, 1601 Lind Avenue, SW., Renton, Washington 98055-4056; telephone (425) 227-2797; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-211-AD.” The postcard will be date stamped and returned to the commenter.

Availability of NPRMs

Any person may obtain a copy of this NPRM by submitting a request to the FAA, Transport Airplane Directorate, ANM-114, Attention: Rules Docket No. 2003-NM-211-AD, 1601 Lind Avenue, SW., Renton, Washington 98055-4056.

Discussion

A proposal to amend part 39 of the Federal Aviation Regulations (14 CFR part 39) to add an airworthiness directive (AD), applicable to all Airbus Model A330-200 and -300 and A340-200, -300, -500, and -600 series airplanes, was published as a notice of proposed rulemaking (NPRM) (hereafter referred to as the “original NPRM”) in the Federal Register on April 22, 2004 (69 FR 21774). The original NPRM would have required a one-time inspection of each emergency evacuation slide raft installed on Type “A” exit doors equipped with regulator valves having a certain part number, to determine if a discrepant regulator valve is installed on the pressure bottle that inflates the slide/raft, and an interim modification of any discrepant valve. The original NPRM also would have required eventual modification of all affected regulator valves, which would terminate the requirements of the AD. The original NPRM was prompted by in-service maintenance testing of the emergency escape slides on Type “A” exit doors, which resulted in failure of the slides to automatically deploy. That condition, if not corrected, could result in failure of an emergency evacuation slide raft to deploy and inflate during an emergency situation, which could impede an evacuation and result in injury to passengers or crewmembers.

Actions Since Issuance of Original NPRM

Since the issuance of the original NPRM, the Direction Générale de l'Aviation Civile (DGAC), which is the airworthiness authority for France, issued French airworthiness directive 2003-213(B) R2, dated July 3, 2004. That airworthiness directive cancels the requirements in French airworthiness directive 2003-213(B) R1, is replaced by another French airworthiness directive issued by the DGAG: F-2004-094 R1, dated February 16, 2005. Airworthiness directive F-2004-094 R1 mandates a new modification of the Vespel piston of the regulator valve, and limits the applicability specified in airworthiness directive 2003-213(B) R1 to airplanes with slide rafts and slides fitted on Type A passenger/crew doors and Type 1 emergency doors having certain part numbers.

Explanation of New Relevant Service Information

Airbus has issued Service Bulletins A330-25-3225, Revision 01 (for Model A330 series airplanes); and A340-25-4228, Revision 01 (for Model A340-200 and -300 series airplanes); both dated September 30, 2004; and A340-25-5054 (for Model A340-500 and -600 series airplanes), dated August 2, 2004. The service bulletins describe procedures for modification of the regulator valves of the slide and slide raft assemblies. Accomplishing the modification eliminates the need for the one-time inspection that would have been required by the original NPRM. The service bulletins reference Goodrich Service Bulletins 25A341, Revision 1, dated May 21, 2003; and 25-347, Revision 1, dated August 30, 2004; as additional sources of service information for accomplishing the modification of the regulator valves. Service Bulletin A340-25-4228, Revision 01, recommends concurrent accomplishment of Airbus Service Bulletin A340-25-4152, dated August 7, 2001; and Service Bulletin A330-25-3225, Revision 01, recommends concurrent accomplishment of Airbus Service Bulletin A330-25-3126, dated August 7, 2001.

Other Relevant Rulemaking

This proposed AD is related to AD 2003-03-06, amendment 39-13030 (68 FR 4378, January 29, 2003). That AD references Airbus Service Bulletins A340-25-4152, dated August 7, 2001; and A330-25-3126, dated August 7, 2001; for modifying the escape slides/slide rafts on the passenger/crew doors and the emergency exit doors. That AD is applicable to Airbus Model A330 and A340 series airplanes and requires a one-time inspection of the rail release pins and parachute pins of the escape slide/raft pack assembly for correct installation; corrective actions if necessary; and modification of the escape slides/slide rafts on the passenger, crew, and emergency exit doors.

Conclusion

Since certain changes discussed above expand the scope of the originally proposed rule, we have determined that it is necessary to reopen the comment period to provide additional opportunity for public comment.

Comments

Comments were submitted on the original NPRM. Due to the release of new service information, those comments are no longer applicable and are not addressed by this supplemental NPRM.

Differences Among Supplemental NPRM, French Airworthiness Directive, and Service Information

The effectivity of the French airworthiness directive includes only airplanes that have emergency slides or slide rafts having certain part numbers and fitted on certain door types and locations. This proposed AD would apply to all airplanes of the affected models, and would require determining if slides or slide rafts having the part numbers specified in the French airworthiness directive are installed. (No further action would be required if no slides or slide rafts having the subject part numbers are installed.) We find that it is necessary to expand the applicability to ensure that the modification that would be required by this proposed AD is performed if slides or slide rafts having an affected part number are installed in the future.

Service Bulletin A340-25-4228, Revision 01, recommends concurrent accomplishment of Airbus Service Bulletin A340-25-4152, dated August 7, 2001; and Service Bulletin A330-25-3225, Revision 01, recommends concurrent accomplishment of Airbus Service Bulletin A330-25-3126, dated August 7, 2001. However, consistent with French airworthiness directive F-2004-094 R1, dated February 16, 2004, this proposed AD would not require accomplishing those service bulletins. Those service bulletins currently are referenced for accomplishing the actions required by AD 2003-03-06, described previously.

Cost Impact

We estimate that 17 Model A330 series airplanes of U.S. registry would be affected by this proposed AD.

It would take about 1 work hour to accomplish the proposed parts identification, at an average labor rate of $65 per work hour. Based on these figures, the cost impact of the proposed parts identification on U.S. operators is estimated to be $1,105, or $65 per airplane.

It would take about 13 work hours per slide (8 slides per airplane) to accomplish the proposed modification, at an average labor rate of $65 per work hour. Required parts would be provided by the manufacturer at no cost to operators. Based on these figures, the cost impact of the proposed modification on U.S. operators is estimated to be $114,920, or $6,760 per airplane.

Currently, there are no affected A340-200, -300, -500, and -600 series airplanes on the U.S. Register. However, if an affected airplane is imported and placed on the U.S. Register in the future, the proposed parts identification would take about 1 work hour, and the proposed modification would take about 104 work hours, at an average labor rate of $65 per work hour. Required parts would be provided by the manufacturer at no cost to operators. Based on these figures, we estimate the cost of the proposed parts identification to be $65 per airplane, and the proposed modification to be $6,760 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2003-NM-211-AD.

Applicability: Model A330 and A340-200, -300, -500, and -600 series airplanes; certificated in any category; except Model A330 and A340-200 and -300 series airplanes on which Airbus Modifications 52708 and 52811 were done during production, and Model A340-500 and -600 series airplanes on which Airbus Modification 52708 was done during production, and on which no slide or slide raft has been removed since delivery from the manufacturer.

Compliance: Required as indicated, unless accomplished previously.

To prevent failure of an emergency evacuation slide raft to deploy and inflate during an emergency situation, which could impede an evacuation and result in injury to passengers or crewmembers, accomplish the following:

Service Information References

(a) The following information pertains to the service information referenced in this AD:

(1) The term “service bulletin” as used in this AD, means the Accomplishment Instructions of Airbus Service Bulletins A330-25-3225, Revision 01 (for Model A330 series airplanes), and A340-25-4228, Revision 01 (for Model A340-200 and -300 series airplanes), both dated September 30, 2004; and A340-25-5054 (for Model A340-500 and -600 series airplanes), dated August 2, 2004.

(2) The service bulletins refer to Goodrich Service Bulletins 25A341, Revision 1, dated May 21, 2003; and 25-347, Revision 1, dated August 30, 2004; as additional sources of service information for accomplishment of the modification specified in the service bulletins.

(3) Accomplishing the modification before the effective date of this AD in accordance with Airbus Service Bulletin A330-25-3225 or A340-25-4228, both dated August 2, 2004; is considered acceptable for compliance with the modification required by this AD.

Part Number Identification/Modification

(b) Within 18 months after the effective date of this AD: Determine the part number of the emergency slides or slide rafts fitted on the door types and locations listed in Table 1 of this AD. If no affected slides or slide rafts are found installed on the airplane, then no further action is required by this paragraph. If any affected slides or slide rafts are found installed on the airplane: Modify the regulator valves of the slide and slide raft assemblies at the applicable time specified in paragraph (b)(1) or (b)(2) of this AD, in accordance with the applicable service bulletin.

(1) For airplanes on which the regulator valves have not been modified as of the effective date of this AD per Goodrich Service Bulletin 25A341, Revision 1, dated May 21, 2003: Before further flight.

(2) For airplanes on which the regulator valves have been modified as of the effective date of this AD per Goodrich Service Bulletin 25A341, Revision 1, dated May 21, 2003: Within 18 months after the effective date of this AD.

Table 1.—Part Numbers
Door type | Door location | Goodrich slide/slide raft part number
A | 1 and 4, LH and RH | 7A1508-001, -003, -005, -007, -013, -015, -017, -101, -103, -105, -107, -109, -113, -115, or -117
A | 2, LH | 7A1539-001, -003, -005, -007, -013, -015, -017, -101, -103, -105, -107, -109, -113, -115, or -117
A | 2, RH | 7A1539-002, -004, -006, -008, -014, -016, -018, -102, -104, -106, -108, -110, -114, -116, or -118
A | 3, LH | 7A1510-001, -003, -005, -007, -013, -015, -017, -101, -103, -105, -107, -109, -113, -115, or -117; or 4A3934-1, -3
A | 3, RH | 7A1510-002, -004, -006, -008, -014, -016, -018, -102, -104, -106, -108, -110, -114, -116, or -118; or 4A3934-2, -4
1 | 3, LH and RH | 7A1509-001, -003, -005, -007, -013, -015, -017, -101, -103, -105, -107, -109, -113, -115, or -117
1 | 3, LH | 4A3928-1
1 | 3, RH | 4A3928-2

Parts Installation

(c) As of the effective date of this AD, no person may install a regulator valve having a part number listed in the old part number column specified in Paragraph 1.L. of the applicable service bulletin on any airplane, unless that regulator valve has been modified in accordance with paragraph (b) of this AD.

Alternative Methods of Compliance

(d) In accordance with 14 CFR 39.19, the Manager, International Branch, ANM-116, Transport Airplane Directorate, FAA, is authorized to approve alternative methods of compliance for this AD.

Note 1: The subject of this AD is addressed in French airworthiness directives F-2003-213(B) R2, dated July 3, 2004, and F-2004-094 R1, dated February 16, 2004.

Issued in Renton, Washington, on June 14, 2005.
Kevin M. Mullin,
Acting Manager, Transport Airplane Directorate, Aircraft Certification Service.

[FR Doc. 05-12303 Filed 6-21-05; 8:45 am]

BILLING CODE 4910-13-P